DEPARTMENT OF ENERGY

Federal Energy Regulatory Commission

Combined Notice of Filings #1

Take notice that the Commission received the following electric rate filings:

Docket Numbers: ER10-1852-008; ER11-4462-009; ER10-1971-016.

Applicants: Florida Power & Light Company, NextEra Energy Power Marketing, LLC, NEPM II, LLC.

Description: Amendment to June 30, 2014 NextEra Companies' Triennial Market Power Update for the Southeast Region.

Filed Date: 6/18/15.

Accession Number: 20150618-5173.

Comments Due: 5 p.m. ET 7/9/15.

Docket Numbers: ER14-2866-002.

Applicants: Louisville Gas and Electric Company.

Description: Compliance filing: Errata to Compliance Filing Attach O Rate Formula Protocols to be effective1/1/2015.

Filed Date: 6/18/15.

Accession Number: 20150618-5126.

Comments Due: 5 p.m. ET 7/9/15.

Docket Numbers: ER15-1668-001.

Applicants: Phoenix Energy Group, LLC.

Description: Tariff Amendment: Amended MBR Filing to be effective6/5/2015.

Filed Date: 6/18/15.

Accession Number: 20150618-5081.

Comments Due: 5 p.m. ET 7/9/15.

Docket Numbers: ER15-1943-000.

Applicants: Southwest Power Pool, Inc.

Description: Section 205(d) Rate Filing: Missouri River Energy Services Formula Rate to be effective 10/1/2015.

Filed Date: 6/18/15.

Accession Number: 20150618-5036.

Comments Due: 5 p.m. ET 7/9/15.

Docket Numbers: ER15-1944-000.

Applicants: ISO New England Inc.

Description: ISO New England Inc. Resource Termination—Enerwise Global Technologies, Inc.

Filed Date: 6/18/15.

Accession Number: 20150618-5058.

Comments Due: 5 p.m. ET 7/9/15.

Docket Numbers: ER15-1945-000.

Applicants: PacifiCorp.

Description: Tariff Cancellation: Termination of West Valley A&R EIM Participation Construction Agmt Rev 1 to be effective 9/10/2015.

Filed Date: 6/18/15.

Accession Number: 20150618-5078.

Comments Due: 5 p.m. ET 7/9/15.

Docket Numbers: ER15-1946-000.

Applicants: Public Service Company of New Mexico.

Description: Section 205(d) Rate Filing: Certificate of Concurrence to APS Rate Schedule No. 279 to be effective 5/21/2015.

Filed Date: 6/18/15.

Accession Number: 20150618-5084.

Comments Due: 5 p.m. ET 7/9/15.

Docket Numbers: ER15-1947-000.

Applicants: Deseret Generation & Transmission Co-operative, Inc.

Description: Initial rate filing: WestConnect Regional PTP Tariff Filing to be effective 7/1/2015.

Filed Date: 6/18/15.

Accession Number: 20150618-5085.

Comments Due: 5 p.m. ET 7/9/15.

Docket Numbers: ER15-1948-000.

Applicants: Midcontinent Independent System Operator, Inc.

Description: Section 205(d) Rate Filing: 2015-06-18_SA 2809 ITC Transmission-Deerfield Wind Energy GIA (J327) to be effective 6/19/2015.

Filed Date: 6/18/15.

Accession Number: 20150618-5140.

Comments Due: 5 p.m. ET 7/9/15.

Docket Numbers: ER15-1949-000.

Applicants: Midcontinent Independent System Operator, Inc., Ameren Illinois Company.

Description: Section 205(d) Rate Filing: 2015-06-18_SA 2685 Attachment A Project Specs (Ameren-SIPC UCA) to be effective 5/18/2015.

Filed Date: 6/18/15.

Accession Number: 20150618-5170.

Comments Due: 5 p.m. ET 7/9/15.

Docket Numbers: ER15-1950-000.

Applicants: Southern Power Company.

Description: Section 205(d) Rate Filing: Pawpaw PPA Filing to be effective 8/18/2015.

Filed Date: 6/18/15.

Accession Number: 20150618-5172.

Comments Due: 5 p.m. ET 7/9/15.

Docket Numbers: ER15-1951-000.

Applicants: New York Power Authority.

Description: Request for Limited Tariff Waiver and Request for Expedited Action of New York Power Authority.

Filed Date: 6/18/15.

Accession Number: 20150618-5174.

Comments Due: 5 p.m. ET 6/29/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 19, 2015.
Kimberly D. Bose,
Secretary.

[FR Doc. 2015-15653 Filed 6-25-15; 8:45 am]

BILLING CODE 6717-01-P